DEPARTMENT OF HOUSING AND URBAN DEVELOPMENT

[Docket No. FR-6217-N-01]

Notice of Annual Factors for Determining Administrative Fees for the Section 8 Housing Choice Voucher, Mainstream, and Moderate Rehabilitation Programs

AGENCY: Office of the Assistant Secretary for Public and Indian Housing, HUD.

ACTION: Notice.

SUMMARY: This notice announces the monthly per unit fee rates for use in determining the on-going administrative fees for public housing agencies (PHAs) administering the Housing Choice Voucher (HCV), Mainstream, and Moderate Rehabilitation programs, including Single Room Occupancy, during calendar year (CY) 2020.

DATES: Applicable Date: January 1, 2020.

FOR FURTHER INFORMATION CONTACT: Miguel A. Fontánez, Director, Housing Voucher Financial Management Division, Office of Public Housing and Voucher Programs, Office of Public and Indian Housing, Department of Housing and Urban Development, 451 Seventh Street SW, Room 4222, Washington, DC 20410-8000, telephone number 202-402-2934. (This is not a toll-free number). Hearing or speech impaired individuals may call TTY number 1 (800) 877-8337.

SUPPLEMENTARY INFORMATION:

A. Background

This notice provides the HUD's methodology used to determine the CY 2020 administrative fee rates by area, which HUD uses to determine PHA administrative fees for the HCV, Mainstream, and Moderate Rehabilitation programs, including Single Room Occupancy programs. The HCV program is the federal government's major program for assisting very low-income families, the elderly, and the disabled to afford decent, safe, and sanitary housing in the private market. Mainstream Vouchers are tenant-based vouchers serving households that include a non-elderly person with a disability, available to PHAs through a competitive Notice of Funding Availability (NOFA). The moderate rehabilitation program provides project-based rental assistance for low income families. The program was repealed in 1991 and no new projects are authorized for development. Assistance is limited to properties previously rehabilitated pursuant to a housing assistance payments (HAP) contract between an owner and a PHA. PHAs are local offices responsible for administering and maintaining Section 8 housing benefits, located across the country.

B. CY 2020 Methodology

For CY 2020, in accordance with the 2020 Appropriations Act (Pub. L. 116-94), administrative fees are determined based on vouchers leased as of the first day of each month. This data is extracted from the Voucher Management System (VMS) at the close of each reporting cycle and validated prior to use. For Moderate Rehabilitation, including Single Room Occupancy, HAP contracts, administrative fees are earned based on the units under a HAP contract.

In the attached table, two fee rates are provided for each PHA. The first rate, Column A, applies to the first 7200 voucher unit months leased in CY 2020. The second rate, Column B, applies to all remaining voucher unit months leased in CY 2020. In years prior to 2010, Column C applied to all voucher unit months leased in dwelling units owned by the PHA. For CY 2020, as in recent years, there are no Column C administrative fee rates. Fees for leasing PHA-owned units is determined in the same manner and at the same Column A and Column B rates as for all other voucher leasing.

In some cases, the fee rates calculated for CY 2020 are lower than those established for CY 2019. In these cases, the affected PHAs are held harmless at the CY 2019 fee rates.

The fee rates for each PHA generally cover the fees for areas in which the PHA has the greatest proportion of its participants, based on Public Housing Information Center (PIC) data submitted by the PHA. In some cases, PHAs have participants in more than one fee area. If such a PHA chooses, the PHA may request HUD establish a blended fee rate to proportionately consider all areas in which participants are located. Once a blended rate is established, it is used to determine the PHA's fee eligibility for all months in CY 2020. The 2020 HCV Funding Implementation Notice described how to apply for blended fee rates and the deadline date for submitting such requests. The notice can be accessed through the following link: https://www.hud.gov/sites/dfiles/PIH/documents/pih2020-04.pdf.

PHAs operating over large geographic areas, defined as multiple counties, may request a higher administrative fee rate if eligible. The 2020 HCV Funding Implementation Notice described when to apply for higher fee rates and the deadline date for such requests. Higher administrative fee rates differ from blended administrative fee rates in how they are calculated. Requests for higher administrative rates must clearly demonstrate that the PHA's published rate cannot cover their projected expenses. Next, a breakeven rate is calculated to ensure the PHA receives sufficient funds to cover their expenses while also ensuring the administrative fee reserves do not grow.

This notice identifies the monthly per-voucher-unit fee rates to be used to determine PHA administrative fee eligibility. These fee rates remain posted at: http://portal.hud.gov/hudportal/HUD?src=/program_offices/public_indian_housing/programs/hcv., under Program Related Information.

Direct questions to the PHA's assigned representative at the Financial Management Center or the Financial Management Division at PIHFinancialManagementDivision@hud.gov.

C. Moving to Work (MTW) Agencies

Where an MTW Agency has an alternative formula for calculating HCV Administrative Fees in Attachment A of their MTW Agreements, HUD calculates the HCV Administrative Fees in accordance with that MTW Agreement provision.

The Assistant Secretary for Public and Indian Housing, R. Hunter Kurtz, having reviewed and approved the annual announcement of Administrative Fee Rates, is delegating the authority to electronically sign this document to Aaron Santa Anna, who is the Federal Register Liaison for HUD, for purposes of publication in the Federal Register.

Dated: June 9, 2020.
Aaron Santa Anna,
Federal Liaison for the Department of Housing and Urban Development.

PHA num | A rate | B rate
AK901 | $102.40 | $95.58
AL001 | 68.38 | 63.82
AL002 | 69.46 | 64.84
AL004 | 67.48 | 62.98
AL005 | 70.23 | 65.55
AL006 | 67.48 | 62.98
AL007 | 67.48 | 62.98
AL008 | 66.11 | 61.70
AL011 | 66.11 | 61.70
AL012 | 67.48 | 62.98
AL014 | 66.11 | 61.70
AL047 | 69.48 | 64.86
AL048 | 67.48 | 62.98
AL049 | 67.48 | 62.98
AL050 | 67.48 | 62.98
AL052 | 66.11 | 61.70
AL053 | 66.11 | 61.70
AL054 | 67.48 | 62.98
AL060 | 66.11 | 61.70
AL061 | 67.48 | 62.98
AL063 | 68.38 | 63.82
AL068 | 67.48 | 62.98
AL069 | 68.38 | 63.82
AL072 | 68.38 | 63.82
AL073 | 66.27 | 61.85
AL075 | 66.11 | 61.70
AL077 | 67.48 | 62.98
AL086 | 68.38 | 63.82
AL090 | 66.11 | 61.70
AL091 | 66.11 | 61.70
AL099 | 66.11 | 61.70
AL105 | 66.11 | 61.70
AL107 | 66.11 | 61.70
AL112 | 66.11 | 61.70
AL114 | 66.11 | 61.70
AL115 | 66.11 | 61.70
AL116 | 66.11 | 61.70
AL118 | 66.11 | 61.70
AL121 | 66.11 | 61.70
AL124 | 66.27 | 61.85
AL125 | 68.38 | 63.82
AL129 | 67.48 | 62.98
AL131 | 67.48 | 62.98
AL138 | 67.48 | 62.98
AL139 | 67.48 | 62.98
AL152 | 67.48 | 62.98
AL154 | 66.11 | 61.70
AL155 | 66.11 | 61.70
AL160 | 66.11 | 61.70
AL165 | 70.47 | 65.78
AL169 | 69.46 | 64.84
AL171 | 66.11 | 61.70
AL172 | 67.48 | 62.98
AL174 | 66.11 | 61.70
AL177 | 66.11 | 61.70
AL181 | 66.11 | 61.70
AL192 | 66.11 | 61.70
AL202 | 69.46 | 64.84
AR002 | 71.21 | 66.47
AR003 | 65.27 | 60.92
AR004 | 71.21 | 66.47
AR006 | 71.21 | 66.47
AR010 | 62.63 | 58.45
AR012 | 62.63 | 58.45
AR015 | 65.43 | 61.07
AR016 | 62.63 | 58.45
AR017 | 65.27 | 60.92
AR020 | 62.78 | 58.59
AR024 | 69.33 | 64.71
AR031 | 65.27 | 60.92
AR033 | 62.63 | 58.45
AR034 | 65.27 | 60.92
AR035 | 62.63 | 58.45
AR037 | 62.63 | 58.45
AR039 | 62.63 | 58.45
AR041 | 71.21 | 66.47
AR042 | 65.27 | 60.92
AR045 | 62.63 | 58.45
AR052 | 62.63 | 58.45
AR059 | 62.63 | 58.45
AR066 | 62.63 | 58.45
AR068 | 62.63 | 58.45
AR082 | 62.63 | 58.45
AR104 | 65.27 | 60.92
AR117 | 62.63 | 58.45
AR121 | 62.63 | 58.45
AR131 | 65.27 | 60.92
AR135 | 62.63 | 58.45
AR152 | 62.63 | 58.45
AR161 | 62.63 | 58.45
AR163 | 65.27 | 60.92
AR166 | 62.63 | 58.45
AR170 | 71.21 | 66.47
AR175 | 71.21 | 66.47
AR176 | 62.63 | 58.45
AR177 | 62.63 | 58.45
AR181 | 65.27 | 60.92
AR194 | 65.27 | 60.92
AR197 | 62.63 | 58.45
AR200 | 62.63 | 58.45
AR210 | 62.63 | 58.45
AR211 | 62.63 | 58.45
AR213 | 62.63 | 58.45
AR214 | 62.63 | 58.45
AR215 | 62.63 | 58.45
AR219 | 71.21 | 66.47
AR223 | 62.63 | 58.45
AR224 | 62.63 | 58.45
AR225 | 62.63 | 58.45
AR232 | 65.27 | 60.92
AR240 | 62.63 | 58.45
AR241 | 65.47 | 61.10
AR247 | 62.63 | 58.45
AR252 | 71.21 | 66.47
AR257 | 62.63 | 58.45
AR264 | 69.33 | 64.71
AR265 | 62.63 | 58.45
AR266 | 62.63 | 58.45
AZ001 | 73.98 | 69.04
AZ003 | 73.98 | 69.04
AZ004 | 73.14 | 68.26
AZ005 | 73.98 | 69.04
AZ006 | 80.89 | 75.50
AZ008 | 58.76 | 54.84
AZ009 | 73.98 | 69.04
AZ010 | 73.98 | 69.04
AZ013 | 82.19 | 76.72
AZ021 | 73.98 | 69.04
AZ023 | 61.91 | 57.78
AZ025 | 73.14 | 68.26
AZ028 | 73.98 | 69.04
AZ031 | 73.98 | 69.04
AZ032 | 73.98 | 69.04
AZ033 | 73.14 | 68.26
AZ034 | 60.78 | 56.73
AZ035 | 82.19 | 76.72
AZ037 | 60.78 | 56.73
AZ041 | 80.89 | 75.50
AZ043 | 99.06 | 92.46
AZ045 | 60.88 | 56.82
AZ880 | 73.98 | 69.04
AZ901 | 80.89 | 75.50
CA001 | 128.02 | 119.49
CA002 | 128.02 | 119.49
CA003 | 128.02 | 119.49
CA004 | 128.02 | 119.49
CA005 | 97.22 | 90.74
CA006 | 89.20 | 83.25
CA007 | 97.22 | 90.74
CA008 | 97.56 | 91.06
CA011 | 128.02 | 119.49
CA014 | 128.02 | 119.49
CA019 | 102.13 | 95.33
CA021 | 125.01 | 116.65
CA022 | 102.13 | 95.33
CA023 | 83.81 | 78.24
CA024 | 93.29 | 87.08
CA026 | 93.94 | 87.67
CA027 | 102.13 | 95.33
CA028 | 89.20 | 83.25
CA030 | 83.18 | 77.65
CA031 | 128.02 | 119.49
CA032 | 128.02 | 119.49
CA033 | 110.29 | 102.93
CA035 | 128.02 | 119.49
CA039 | 92.82 | 86.63
CA041 | 111.14 | 103.73
CA043 | 85.73 | 80.00
CA044 | 97.22 | 90.74
CA048 | 73.56 | 68.66
CA052 | 128.02 | 119.49
CA053 | 80.51 | 75.14
CA055 | 111.14 | 103.73
CA056 | 128.02 | 119.49
CA058 | 128.02 | 119.49
CA059 | 128.02 | 119.49
CA060 | 128.02 | 119.49
CA061 | 84.88 | 79.22
CA062 | 128.02 | 119.49
CA063 | 114.46 | 106.82
CA064 | 110.82 | 103.43
CA065 | 111.14 | 103.73
CA066 | 111.14 | 103.73
CA067 | 128.02 | 119.49
CA068 | 128.02 | 119.49
CA069 | 89.20 | 83.25
CA070 | 77.68 | 72.50
CA071 | 128.02 | 119.49
CA072 | 128.02 | 119.49
CA073 | 111.14 | 103.73
CA074 | 128.02 | 119.49
CA075 | 128.02 | 119.49
CA076 | 125.01 | 116.65
CA077 | 114.46 | 106.82
CA079 | 128.02 | 119.49
CA082 | 128.02 | 119.49
CA084 | 91.48 | 85.38
CA085 | 124.86 | 116.54
CA086 | 87.44 | 81.60
CA088 | 124.86 | 116.54
CA092 | 128.02 | 119.49
CA093 | 128.02 | 119.49
CA094 | 128.02 | 119.49
CA096 | 89.20 | 83.25
CA102 | 128.02 | 119.49
CA103 | 128.02 | 119.49
CA104 | 128.02 | 119.49
CA105 | 128.02 | 119.49
CA106 | 89.20 | 83.25
CA108 | 114.46 | 106.82
CA110 | 128.02 | 119.49
CA111 | 128.02 | 119.49
CA114 | 128.02 | 119.49
CA116 | 114.46 | 106.82
CA117 | 128.02 | 119.49
CA118 | 128.02 | 119.49
CA119 | 128.02 | 119.49
CA120 | 128.02 | 119.49
CA121 | 128.02 | 119.49
CA123 | 128.02 | 119.49
CA125 | 111.14 | 103.73
CA126 | 128.02 | 119.49
CA128 | 97.22 | 90.74
CA131 | 111.14 | 103.73
CA132 | 114.46 | 106.82
CA136 | 128.02 | 119.49
CA143 | 92.82 | 86.63
CA144 | 84.88 | 79.22
CA149 | 97.22 | 90.74
CA151 | 97.22 | 90.74
CA155 | 114.46 | 106.82
CO001 | 78.01 | 72.81
CO002 | 72.06 | 67.25
CO005 | 81.04 | 75.63
CO006 | 69.37 | 64.74
CO016 | 88.52 | 82.61
CO019 | 78.01 | 72.81
CO024 | 69.37 | 64.74
CO028 | 72.78 | 67.92
CO031 | 69.37 | 64.74
CO034 | 83.88 | 78.30
CO035 | 72.33 | 67.52
CO036 | 78.01 | 72.81
CO040 | 107.12 | 99.99
CO041 | 83.88 | 78.30
CO043 | 81.04 | 75.63
CO045 | 69.37 | 64.74
CO048 | 78.01 | 72.81
CO049 | 78.01 | 72.81
CO050 | 78.01 | 72.81
CO051 | 91.26 | 85.17
CO052 | 78.01 | 72.81
CO057 | 78.01 | 72.81
CO058 | 78.01 | 72.81
CO061 | 88.52 | 82.61
CO070 | 88.52 | 82.61
CO071 | 72.78 | 67.92
CO072 | 78.01 | 72.81
CO079 | 81.04 | 75.63
CO087 | 107.12 | 99.99
CO090 | 72.33 | 67.52
CO095 | 102.43 | 95.60
CO101 | 69.37 | 64.74
CO103 | 83.88 | 78.30
CO888 | 72.06 | 67.25
CO911 | 78.01 | 72.81
CO921 | 78.01 | 72.81
CT001 | 100.19 | 93.52
CT002 | 107.40 | 100.25
CT003 | 94.44 | 88.13
CT004 | 104.10 | 97.16
CT005 | 94.44 | 88.13
CT006 | 85.30 | 79.61
CT007 | 107.40 | 100.25
CT008 | 94.44 | 88.13
CT009 | 94.44 | 88.13
CT010 | 85.30 | 79.61
CT011 | 104.10 | 97.16
CT013 | 94.44 | 88.13
CT015 | 100.19 | 93.52
CT017 | 100.19 | 93.52
CT018 | 92.71 | 86.53
CT019 | 107.40 | 100.25
CT020 | 107.40 | 100.25
CT023 | 94.44 | 88.13
CT024 | 85.30 | 79.61
CT026 | 94.44 | 88.13
CT027 | 100.19 | 93.52
CT028 | 94.44 | 88.13
CT029 | 104.10 | 97.16
CT030 | 100.19 | 93.52
CT031 | 85.30 | 79.61
CT032 | 94.44 | 88.13
CT033 | 94.44 | 88.13
CT036 | 94.44 | 88.13
CT038 | 94.44 | 88.13
CT039 | 94.44 | 88.13
CT040 | 94.44 | 88.13
CT041 | 94.44 | 88.13
CT042 | 104.10 | 97.16
CT047 | 85.30 | 79.61
CT048 | 94.44 | 88.13
CT049 | 94.44 | 88.13
CT051 | 94.44 | 88.13
CT052 | 100.19 | 93.52
CT053 | 94.44 | 88.13
CT058 | 85.30 | 79.61
CT061 | 85.30 | 79.61
CT063 | 104.10 | 97.16
CT067 | 104.10 | 97.16
CT068 | 94.44 | 88.13
CT901 | 94.44 | 88.13
DC001 | 116.27 | 108.53
DC880 | 116.27 | 108.53
DE001 | 93.31 | 87.09
DE002 | 80.59 | 75.21
DE003 | 93.31 | 87.09
DE005 | 93.31 | 87.09
DE901 | 80.59 | 75.21
FL001 | 75.03 | 70.03
FL002 | 79.21 | 73.92
FL003 | 79.21 | 73.92
FL004 | 82.73 | 77.21
FL005 | 107.49 | 100.34
FL007 | 79.41 | 74.12
FL008 | 86.94 | 81.14
FL009 | 83.94 | 78.34
FL010 | 100.65 | 93.94
FL011 | 65.93 | 61.54
FL013 | 108.66 | 101.43
FL015 | 70.50 | 65.79
FL017 | 107.49 | 100.34
FL018 | 64.40 | 60.11
FL019 | 76.37 | 71.30
FL020 | 76.37 | 71.30
FL021 | 83.94 | 78.34
FL022 | 79.41 | 74.12
FL023 | 86.94 | 81.14
FL024 | 79.41 | 74.12
FL025 | 76.37 | 71.30
FL026 | 65.93 | 61.54
FL028 | 100.65 | 93.94
FL030 | 79.41 | 74.12
FL031 | 63.20 | 58.99
FL032 | 64.92 | 60.58
FL033 | 82.73 | 77.21
FL034 | 79.21 | 73.92
FL035 | 64.40 | 60.11
FL037 | 75.03 | 70.03
FL041 | 84.39 | 78.77
FL045 | 84.39 | 78.77
FL046 | 64.40 | 60.11
FL047 | 83.28 | 77.74
FL049 | 63.20 | 58.99
FL053 | 64.92 | 60.58
FL057 | 63.20 | 58.99
FL060 | 81.10 | 75.69
FL062 | 79.21 | 73.92
FL063 | 71.18 | 66.44
FL066 | 107.49 | 100.34
FL068 | 107.49 | 100.34
FL069 | 64.40 | 60.11
FL070 | 71.18 | 66.44
FL071 | 65.93 | 61.54
FL072 | 79.41 | 74.12
FL073 | 70.50 | 65.79
FL075 | 79.21 | 73.92
FL079 | 100.65 | 93.94
FL080 | 83.94 | 78.34
FL081 | 100.65 | 93.94
FL083 | 83.94 | 78.34
FL092 | 64.92 | 60.58
FL093 | 82.73 | 77.21
FL102 | 64.40 | 60.11
FL104 | 79.21 | 73.92
FL105 | 86.94 | 81.14
FL106 | 82.73 | 77.21
FL110 | 64.40 | 60.11
FL113 | 79.41 | 74.12
FL116 | 100.65 | 93.94
FL119 | 83.94 | 78.34
FL123 | 79.74 | 74.42
FL128 | 83.28 | 77.74
FL132 | 84.08 | 78.49
FL136 | 100.65 | 93.94
FL137 | 79.21 | 73.92
FL139 | 65.93 | 61.54
FL141 | 86.66 | 80.89
FL144 | 108.66 | 101.43
FL145 | 107.49 | 100.34
FL147 | 64.40 | 60.11
FL201 | 82.73 | 77.21
FL202 | 63.20 | 58.99
FL881 | 107.49 | 100.34
FL888 | 79.21 | 73.92
GA001 | 70.23 | 65.55
GA002 | 70.23 | 65.55
GA004 | 70.23 | 65.55
GA006 | 85.63 | 79.91
GA007 | 70.23 | 65.55
GA009 | 70.23 | 65.55
GA010 | 85.63 | 79.91
GA011 | 85.63 | 79.91
GA023 | 70.23 | 65.55
GA062 | 67.12 | 62.64
GA078 | 85.63 | 79.91
GA095 | 85.63 | 79.91
GA116 | 85.63 | 79.91
GA188 | 85.63 | 79.91
GA228 | 85.63 | 79.91
GA232 | 85.63 | 79.91
GA237 | 85.63 | 79.91
GA264 | 85.63 | 79.91
GA269 | 85.63 | 79.91
GA285 | 70.23 | 65.55
GA901 | 85.63 | 79.91
GQ901 | 118.25 | 110.38
HI002 | 120.91 | 112.85
HI003 | 131.38 | 122.63
HI004 | 131.39 | 122.64
HI005 | 136.18 | 127.11
HI901 | 131.38 | 122.63
IA002 | 67.21 | 62.73
IA004 | 70.66 | 65.95
IA015 | 67.21 | 62.73
IA018 | 70.90 | 66.17
IA020 | 80.19 | 74.85
IA022 | 81.73 | 76.29
IA023 | 71.25 | 66.50
IA024 | 77.63 | 72.45
IA030 | 67.21 | 62.73
IA038 | 77.93 | 72.74
IA042 | 67.21 | 62.73
IA045 | 74.56 | 69.59
IA047 | 67.21 | 62.73
IA049 | 67.21 | 62.73
IA050 | 77.93 | 72.74
IA054 | 67.21 | 62.73
IA056 | 67.21 | 62.73
IA057 | 67.21 | 62.73
IA084 | 67.21 | 62.73
IA087 | 71.84 | 67.05
IA098 | 70.81 | 66.10
IA100 | 67.21 | 62.73
IA107 | 67.21 | 62.73
IA108 | 67.21 | 62.73
IA113 | 77.93 | 72.74
IA114 | 67.21 | 62.73
IA117 | 71.25 | 66.50
IA119 | 67.21 | 62.73
IA120 | 80.19 | 74.85
IA122 | 67.21 | 62.73
IA124 | 67.21 | 62.73
IA125 | 67.21 | 62.73
IA126 | 74.56 | 69.59
IA127 | 67.21 | 62.73
IA128 | 67.21 | 62.73
IA129 | 67.21 | 62.73
IA130 | 67.21 | 62.73
IA131 | 80.19 | 74.85
IA132 | 77.93 | 72.74
IA136 | 67.21 | 62.73
ID005 | 68.89 | 64.30
ID013 | 85.61 | 79.91
ID016 | 85.61 | 79.91
ID021 | 85.61 | 79.91
ID901 | 71.32 | 66.55
IL002 | 98.72 | 92.13
IL003 | 77.95 | 72.76
IL004 | 71.04 | 66.30
IL006 | 69.57 | 64.94
IL009 | 74.56 | 69.59
IL010 | 74.56 | 69.59
IL011 | 63.13 | 58.92
IL012 | 67.22 | 62.74
IL014 | 74.93 | 69.94
IL015 | 67.77 | 63.25
IL016 | 62.64 | 58.46
IL018 | 74.56 | 69.59
IL020 | 74.56 | 69.59
IL022 | 70.89 | 66.17
IL024 | 98.72 | 92.13
IL025 | 98.72 | 92.13
IL026 | 98.72 | 92.13
IL028 | 71.04 | 66.30
IL030 | 67.77 | 63.25
IL032 | 74.93 | 69.94
IL034 | 69.57 | 64.94
IL035 | 74.93 | 69.94
IL037 | 62.64 | 58.46
IL038 | 62.64 | 58.46
IL039 | 67.35 | 62.87
IL040 | 62.64 | 58.46
IL042 | 62.64 | 58.46
IL043 | 62.64 | 58.46
IL050 | 63.13 | 58.92
IL051 | 69.33 | 64.72
IL052 | 62.64 | 58.46
IL053 | 63.13 | 58.92
IL054 | 98.72 | 92.13
IL056 | 98.72 | 92.13
IL057 | 62.64 | 58.46
IL059 | 62.64 | 58.46
IL061 | 63.38 | 59.15
IL074 | 67.77 | 63.25
IL076 | 62.64 | 58.46
IL079 | 62.64 | 58.46
IL082 | 62.64 | 58.46
IL083 | 70.89 | 66.17
IL084 | 66.44 | 62.01
IL085 | 63.95 | 59.69
IL086 | 66.44 | 62.01
IL087 | 62.64 | 58.46
IL088 | 62.64 | 58.46
IL089 | 78.24 | 73.02
IL090 | 98.72 | 92.13
IL091 | 62.64 | 58.46
IL092 | 98.72 | 92.13
IL095 | 73.47 | 68.57
IL096 | 62.64 | 58.46
IL101 | 98.72 | 92.13
IL103 | 98.72 | 92.13
IL104 | 77.95 | 72.76
IL107 | 98.72 | 92.13
IL116 | 98.72 | 92.13
IL117 | 69.33 | 64.72
IL120 | 62.64 | 58.46
IL122 | 70.89 | 66.17
IL123 | 62.64 | 58.46
IL124 | 77.95 | 72.76
IL126 | 63.13 | 58.92
IL130 | 98.72 | 92.13
IL131 | 74.56 | 69.59
IL136 | 98.72 | 92.13
IL137 | 99.57 | 92.92
IL901 | 98.72 | 92.13
IN002 | 53.46 | 49.90
IN003 | 59.27 | 55.33
IN004 | 55.21 | 51.53
IN005 | 55.21 | 51.53
IN006 | 65.53 | 61.16
IN007 | 57.66 | 53.82
IN009 | 53.46 | 49.90
IN010 | 72.36 | 67.55
IN011 | 72.36 | 67.55
IN012 | 62.61 | 58.44
IN015 | 58.34 | 54.46
IN016 | 57.29 | 53.47
IN017 | 65.53 | 61.16
IN018 | 53.46 | 49.90
IN019 | 57.16 | 53.34
IN020 | 58.34 | 54.46
IN021 | 55.21 | 51.53
IN022 | 58.74 | 54.83
IN023 | 62.61 | 58.44
IN025 | 62.61 | 58.44
IN026 | 57.28 | 53.46
IN029 | 72.36 | 67.55
IN031 | 53.46 | 49.90
IN032 | 54.42 | 50.79
IN035 | 55.21 | 51.53
IN037 | 57.29 | 53.47
IN041 | 53.46 | 49.90
IN043 | 53.46 | 49.90
IN047 | 53.46 | 49.90
IN048 | 53.46 | 49.90
IN050 | 53.46 | 49.90
IN055 | 54.42 | 50.79
IN056 | 55.96 | 52.23
IN058 | 59.81 | 55.83
IN060 | 57.28 | 53.46
IN062 | 57.39 | 53.58
IN067 | 53.46 | 49.90
IN071 | 63.30 | 59.07
IN073 | 53.46 | 49.90
IN077 | 54.42 | 50.79
IN078 | 55.96 | 52.23
IN079 | 65.53 | 61.16
IN080 | 65.53 | 61.16
IN086 | 53.46 | 49.90
IN091 | 53.46 | 49.90
IN092 | 53.46 | 49.90
IN094 | 55.35 | 51.65
IN100 | 58.34 | 54.46
IN901 | 65.53 | 61.16
KS001 | 65.89 | 61.49
KS002 | 62.39 | 58.24
KS004 | 67.22 | 62.73
KS006 | 58.67 | 54.76
KS017 | 58.67 | 54.76
KS038 | 58.67 | 54.76
KS041 | 58.67 | 54.76
KS043 | 65.89 | 61.49
KS053 | 68.95 | 64.35
KS062 | 58.67 | 54.76
KS063 | 59.23 | 55.28
KS068 | 65.89 | 61.49
KS073 | 67.22 | 62.73
KS091 | 58.67 | 54.76
KS149 | 58.67 | 54.76
KS159 | 65.89 | 61.49
KS161 | 58.67 | 54.76
KS162 | 65.89 | 61.49
KS165 | 58.67 | 54.76
KS166 | 58.67 | 54.76
KS167 | 59.23 | 55.28
KS168 | 62.39 | 58.24
KS170 | 58.67 | 54.76
KY001 | 62.61 | 58.44
KY003 | 56.90 | 53.11
KY004 | 69.34 | 64.72
KY007 | 55.86 | 52.14
KY008 | 55.86 | 52.14
KY009 | 62.61 | 58.44
KY011 | 70.23 | 65.55
KY012 | 57.29 | 53.47
KY015 | 71.51 | 66.74
KY017 | 55.86 | 52.14
KY021 | 55.86 | 52.14
KY022 | 55.86 | 52.14
KY026 | 55.86 | 52.14
KY027 | 55.86 | 52.14
KY035 | 55.86 | 52.14
KY040 | 55.86 | 52.14
KY047 | 55.86 | 52.14
KY053 | 55.86 | 52.14
KY056 | 55.86 | 52.14
KY061 | 69.34 | 64.72
KY071 | 62.10 | 57.96
KY086 | 55.86 | 52.14
KY107 | 55.86 | 52.14
KY121 | 55.86 | 52.14
KY132 | 61.86 | 57.74
KY133 | 71.51 | 66.74
KY135 | 71.51 | 66.74
KY136 | 71.51 | 66.74
KY137 | 55.86 | 52.14
KY138 | 55.86 | 52.14
KY140 | 69.34 | 64.72
KY141 | 55.86 | 52.14
KY142 | 62.44 | 58.28
KY157 | 55.86 | 52.14
KY160 | 55.86 | 52.14
KY161 | 62.44 | 58.28
KY163 | 55.86 | 52.14
KY169 | 55.86 | 52.14
KY171 | 62.61 | 58.44
KY901 | 69.34 | 64.72
LA001 | 73.17 | 68.28
LA002 | 71.63 | 66.86
LA003 | 79.00 | 73.74
LA004 | 68.37 | 63.81
LA005 | 68.37 | 63.81
LA006 | 68.37 | 63.81
LA009 | 79.00 | 73.74
LA012 | 73.17 | 68.28
LA013 | 73.17 | 68.28
LA023 | 68.37 | 63.81
LA024 | 67.58 | 63.08
LA029 | 68.37 | 63.81
LA031 | 67.58 | 63.08
LA032 | 68.37 | 63.81
LA033 | 67.58 | 63.08
LA036 | 67.58 | 63.08
LA037 | 72.99 | 68.13
LA046 | 68.37 | 63.81
LA057 | 68.37 | 63.81
LA063 | 68.37 | 63.81
LA067 | 67.58 | 63.08
LA074 | 67.58 | 63.08
LA086 | 67.58 | 63.08
LA094 | 73.17 | 68.28
LA097 | 67.58 | 63.08
LA101 | 79.00 | 73.74
LA103 | 73.17 | 68.28
LA104 | 68.37 | 63.81
LA111 | 67.58 | 63.88
LA114 | 67.58 | 63.08
LA115 | 67.58 | 63.08
LA120 | 68.37 | 63.81
LA122 | 68.37 | 63.81
LA125 | 67.58 | 63.08
LA128 | 67.58 | 63.08
LA129 | 68.37 | 63.81
LA132 | 67.58 | 63.08
LA159 | 67.58 | 63.08
LA163 | 67.58 | 63.08
LA165 | 68.37 | 63.81
LA166 | 67.58 | 63.08
LA169 | 67.58 | 63.08
LA171 | 68.37 | 63.81
LA172 | 68.37 | 63.81
LA173 | 68.37 | 63.81
LA174 | 68.37 | 63.81
LA178 | 68.37 | 63.81
LA181 | 73.17 | 68.28
LA182 | 67.58 | 63.08
LA184 | 71.63 | 66.86
LA186 | 68.37 | 63.81
LA187 | 73.17 | 68.28
LA188 | 67.58 | 63.08
LA189 | 68.37 | 63.81
LA190 | 71.63 | 66.86
LA192 | 67.58 | 63.08
LA194 | 70.06 | 65.40
LA195 | 67.58 | 63.08
LA196 | 68.37 | 63.81
LA199 | 79.00 | 73.74
LA202 | 79.00 | 73.74
LA204 | 79.00 | 73.74
LA205 | 79.00 | 73.74
LA206 | 68.37 | 63.81
LA207 | 68.37 | 63.81
LA211 | 70.06 | 65.40
LA212 | 67.58 | 63.08
LA213 | 72.99 | 68.13
LA214 | 68.37 | 63.81
LA215 | 67.58 | 63.08
LA220 | 67.58 | 63.08
LA222 | 67.58 | 63.08
LA229 | 67.58 | 63.08
LA230 | 71.63 | 66.86
LA232 | 67.58 | 63.08
LA233 | 67.58 | 63.08
LA238 | 73.17 | 68.28
LA241 | 67.58 | 63.08
LA242 | 67.58 | 63.08
LA246 | 67.58 | 63.08
LA247 | 67.58 | 63.08
LA248 | 67.58 | 63.08
LA253 | 70.06 | 65.40
LA257 | 67.58 | 63.08
LA258 | 67.58 | 63.08
LA266 | 68.37 | 63.81
LA888 | 71.63 | 66.86
LA889 | 73.17 | 68.28
LA903 | 73.17 | 68.28
MA001 | 121.02 | 112.96
MA002 | 130.81 | 122.08
MA003 | 130.81 | 122.08
MA005 | 121.02 | 112.96
MA006 | 118.28 | 110.40
MA007 | 121.02 | 112.96
MA008 | 121.02 | 112.96
MA010 | 121.02 | 112.96
MA012 | 121.02 | 112.96
MA013 | 130.81 | 122.08
MA014 | 130.81 | 122.08
MA015 | 130.81 | 122.08
MA016 | 130.81 | 122.08
MA017 | 130.81 | 122.08
MA018 | 118.28 | 110.40
MA019 | 130.81 | 122.08
MA020 | 130.81 | 122.08
MA022 | 130.81 | 122.08
MA023 | 130.81 | 122.08
MA024 | 121.02 | 112.96
MA025 | 130.81 | 122.08
MA026 | 121.02 | 112.96
MA027 | 130.81 | 122.08
MA028 | 130.81 | 122.08
MA029 | 121.02 | 112.96
MA031 | 130.81 | 122.08
MA032 | 130.81 | 122.08
MA033 | 130.81 | 122.08
MA034 | 121.02 | 112.96
MA035 | 121.02 | 112.96
MA036 | 130.81 | 122.08
MA037 | 121.02 | 112.96
MA039 | 121.02 | 112.96
MA040 | 130.81 | 122.08
MA041 | 121.02 | 112.96
MA042 | 130.81 | 122.08
MA043 | 121.02 | 112.96
MA044 | 130.81 | 122.08
MA045 | 130.81 | 122.08
MA046 | 131.11 | 122.38
MA047 | 131.11 | 122.38
MA048 | 130.81 | 122.08
MA050 | 121.02 | 112.96
MA051 | 121.02 | 112.96
MA053 | 130.81 | 122.08
MA054 | 130.81 | 122.08
MA055 | 130.81 | 122.08
MA056 | 130.81 | 122.08
MA057 | 130.81 | 122.08
MA059 | 130.81 | 122.08
MA060 | 121.02 | 112.96
MA061 | 130.81 | 122.08
MA063 | 130.81 | 122.08
MA065 | 130.81 | 122.08
MA066 | 121.02 | 112.96
MA067 | 130.81 | 122.08
MA069 | 130.81 | 122.08
MA070 | 130.81 | 122.08
MA072 | 130.81 | 122.08
MA073 | 130.81 | 122.08
MA074 | 130.81 | 122.08
MA075 | 130.81 | 122.08
MA076 | 121.02 | 112.96
MA077 | 121.02 | 112.96
MA078 | 121.02 | 112.96
MA079 | 130.81 | 122.08
MA080 | 121.02 | 112.96
MA081 | 121.02 | 112.96
MA082 | 121.02 | 112.96
MA084 | 121.02 | 112.96
MA085 | 121.02 | 112.96
MA086 | 121.02 | 112.96
MA087 | 121.02 | 112.96
MA088 | 121.02 | 112.96
MA089 | 130.81 | 122.08
MA090 | 130.81 | 122.08
MA091 | 130.81 | 122.08
MA092 | 130.81 | 122.08
MA093 | 130.81 | 122.08
MA094 | 119.92 | 111.93
MA095 | 131.11 | 122.38
MA096 | 119.92 | 111.93
MA098 | 130.81 | 122.08
MA099 | 130.81 | 122.08
MA100 | 121.02 | 112.96
MA101 | 130.81 | 122.08
MA105 | 121.02 | 112.96
MA106 | 121.02 | 112.96
MA107 | 121.02 | 112.96
MA108 | 121.02 | 112.96
MA109 | 130.81 | 122.08
MA110 | 131.11 | 122.38
MA111 | 130.81 | 122.08
MA112 | 130.81 | 122.08
MA116 | 130.81 | 122.08
MA117 | 130.81 | 122.08
MA118 | 130.81 | 122.08
MA119 | 130.81 | 122.08
MA121 | 130.81 | 122.08
MA122 | 130.81 | 122.08
MA123 | 121.02 | 112.96
MA125 | 130.81 | 122.08
MA127 | 121.02 | 112.96
MA133 | 130.81 | 122.08
MA134 | 130.81 | 122.08
MA135 | 130.81 | 122.08
MA138 | 131.11 | 122.38
MA139 | 121.02 | 112.96
MA140 | 130.81 | 122.08
MA147 | 130.81 | 122.08
MA154 | 130.81 | 122.08
MA155 | 130.81 | 122.08
MA165 | 130.81 | 122.08
MA170 | 118.28 | 110.40
MA172 | 121.02 | 112.96
MA174 | 130.81 | 122.08
MA180 | 131.11 | 122.38
MA181 | 131.11 | 122.38
MA188 | 121.02 | 112.96
MA880 | 130.81 | 122.08
MA881 | 130.81 | 122.08
MA882 | 121.02 | 112.96
MA883 | 130.81 | 122.08
MA901 | 130.81 | 122.08
MD001 | 87.10 | 81.28
MD002 | 87.10 | 81.28
MD003 | 116.27 | 108.53
MD004 | 116.27 | 108.53
MD006 | 68.32 | 63.76
MD007 | 116.27 | 108.53
MD014 | 78.28 | 73.06
MD015 | 116.27 | 108.53
MD016 | 93.31 | 87.09
MD018 | 87.10 | 81.28
MD019 | 76.79 | 71.66
MD021 | 98.80 | 92.21
MD022 | 116.27 | 108.53
MD023 | 87.10 | 81.28
MD024 | 116.27 | 108.53
MD025 | 87.10 | 81.28
MD027 | 87.10 | 81.28
MD028 | 68.32 | 63.76
MD029 | 93.31 | 87.09
MD032 | 87.10 | 81.28
MD033 | 87.10 | 81.28
MD034 | 87.10 | 81.28
MD901 | 116.27 | 108.53
ME001 | 66.51 | 62.08
ME002 | 66.51 | 62.08
ME003 | 105.84 | 98.80
ME004 | 66.51 | 62.08
ME005 | 75.74 | 70.68
ME006 | 80.94 | 75.53
ME007 | 75.74 | 70.68
ME008 | 69.93 | 65.26
ME009 | 76.88 | 71.77
ME011 | 93.12 | 86.90
ME015 | 105.84 | 98.80
ME018 | 76.88 | 71.77
ME019 | 84.84 | 79.16
ME020 | 105.84 | 98.80
ME021 | 76.88 | 71.77
ME025 | 66.51 | 62.08
ME027 | 68.27 | 63.73
ME028 | 93.12 | 86.90
ME030 | 69.93 | 65.26
ME901 | 65.29 | 60.93
MI001 | 67.95 | 63.42
MI005 | 67.95 | 63.42
MI006 | 58.11 | 54.23
MI008 | 67.95 | 63.42
MI009 | 58.49 | 54.58
MI010 | 59.23 | 55.29
MI019 | 56.79 | 53.00
MI020 | 56.79 | 53.00
MI023 | 56.79 | 53.00
MI027 | 67.95 | 63.42
MI030 | 56.79 | 53.00
MI031 | 64.14 | 59.87
MI032 | 59.23 | 55.29
MI035 | 61.24 | 57.17
MI036 | 56.79 | 53.00
MI037 | 67.95 | 63.42
MI038 | 58.73 | 54.82
MI039 | 67.95 | 63.42
MI040 | 67.95 | 63.42
MI044 | 67.95 | 63.42
MI045 | 67.95 | 63.42
MI047 | 56.79 | 53.00
MI048 | 67.95 | 63.42
MI049 | 56.79 | 53.00
MI050 | 56.79 | 53.00
MI051 | 67.95 | 63.42
MI052 | 67.95 | 63.42
MI055 | 67.95 | 63.42
MI058 | 65.15 | 60.80
MI059 | 67.95 | 63.42
MI060 | 60.91 | 56.84
MI061 | 61.30 | 57.21
MI063 | 56.79 | 53.00
MI064 | 80.96 | 75.56
MI066 | 64.14 | 59.87
MI070 | 60.91 | 56.84
MI073 | 64.14 | 59.87
MI074 | 61.30 | 57.21
MI080 | 63.03 | 58.84
MI084 | 60.91 | 56.84
MI087 | 60.91 | 56.84
MI089 | 67.95 | 63.42
MI093 | 64.14 | 59.87
MI094 | 56.79 | 53.00
MI096 | 67.95 | 63.42
MI097 | 67.95 | 63.42
MI100 | 67.95 | 63.42
MI112 | 56.79 | 53.00
MI115 | 64.14 | 59.87
MI117 | 56.79 | 53.00
MI119 | 56.79 | 53.00
MI120 | 59.23 | 55.29
MI121 | 61.30 | 57.21
MI132 | 56.79 | 53.00
MI139 | 67.95 | 63.42
MI157 | 67.95 | 63.42
MI167 | 65.15 | 60.80
MI168 | 65.15 | 60.80
MI186 | 56.79 | 53.00
MI194 | 65.15 | 60.80
MI198 | 64.14 | 59.87
MI880 | 65.15 | 60.80
MI901 | 67.95 | 63.42
MN001 | 92.99 | 86.79
MN002 | 92.99 | 86.79
MN003 | 68.78 | 64.20
MN006 | 64.25 | 59.97
MN007 | 68.78 | 64.20
MN008 | 63.37 | 59.14
MN009 | 63.37 | 59.14
MN018 | 63.37 | 59.14
MN021 | 76.95 | 71.82
MN032 | 63.37 | 59.14
MN034 | 63.37 | 59.14
MN037 | 63.43 | 59.21
MN038 | 70.85 | 66.12
MN049 | 63.37 | 59.14
MN063 | 69.08 | 64.47
MN067 | 92.99 | 86.79
MN073 | 68.78 | 64.20
MN077 | 69.13 | 64.53
MN085 | 63.37 | 59.14
MN090 | 63.37 | 59.14
MN101 | 63.37 | 59.14
MN107 | 63.37 | 59.14
MN128 | 63.37 | 59.14
MN144 | 92.99 | 86.79
MN147 | 92.99 | 86.79
MN151 | 76.99 | 71.87
MN152 | 92.99 | 86.79
MN153 | 63.37 | 59.14
MN154 | 63.37 | 59.14
MN158 | 76.95 | 71.82
MN161 | 66.48 | 62.04
MN163 | 92.99 | 86.79
MN164 | 76.95 | 71.82
MN166 | 63.37 | 59.14
MN167 | 69.08 | 64.47
MN168 | 66.48 | 62.04
MN169 | 63.37 | 59.14
MN170 | 92.99 | 86.79
MN171 | 65.48 | 61.10
MN172 | 70.85 | 66.12
MN173 | 63.37 | 59.14
MN174 | 63.37 | 59.14
MN176 | 63.37 | 59.14
MN177 | 63.37 | 59.14
MN178 | 66.48 | 62.04
MN179 | 63.37 | 59.14
MN180 | 63.37 | 59.14
MN182 | 63.37 | 59.14
MN184 | 92.99 | 86.79
MN188 | 63.37 | 59.14
MN190 | 63.37 | 59.14
MN191 | 63.37 | 59.14
MN192 | 63.37 | 59.14
MN193 | 71.20 | 66.46
MN197 | 63.37 | 59.14
MN200 | 63.37 | 59.14
MN203 | 66.48 | 62.04
MN212 | 92.99 | 86.79
MN216 | 92.99 | 86.79
MN219 | 69.08 | 64.47
MN220 | 69.13 | 64.53
MN801 | 92.99 | 86.79
MN802 | 92.99 | 86.79
MO001 | 67.77 | 63.25
MO002 | 65.89 | 61.49
MO003 | 64.97 | 60.64
MO004 | 67.77 | 63.25
MO006 | 67.77 | 63.25
MO007 | 64.97 | 60.64
MO008 | 64.75 | 60.44
MO009 | 64.97 | 60.64
MO010 | 64.75 | 60.44
MO014 | 64.97 | 60.64
MO016 | 64.75 | 60.44
MO017 | 65.89 | 61.49
MO030 | 65.89 | 61.49
MO037 | 64.75 | 60.44
MO040 | 64.75 | 60.44
MO053 | 65.89 | 61.49
MO058 | 64.97 | 60.64
MO064 | 64.75 | 60.44
MO065 | 64.75 | 60.44
MO072 | 64.75 | 60.44
MO074 | 64.75 | 60.44
MO107 | 64.75 | 60.44
MO129 | 64.75 | 60.44
MO133 | 64.75 | 60.44
MO145 | 64.75 | 60.44
MO149 | 64.75 | 60.44
MO188 | 64.97 | 60.64
MO190 | 64.75 | 60.44
MO193 | 65.89 | 61.49
MO196 | 65.89 | 61.49
MO197 | 65.89 | 61.49
MO198 | 64.97 | 60.64
MO199 | 67.77 | 63.25
MO200 | 64.75 | 60.44
MO203 | 64.97 | 60.64
MO204 | 65.89 | 61.49
MO205 | 67.77 | 63.25
MO206 | 64.75 | 60.44
MO207 | 64.75 | 60.44
MO209 | 64.75 | 60.44
MO210 | 65.89 | 61.49
MO212 | 64.75 | 60.44
MO213 | 65.89 | 61.49
MO215 | 64.97 | 60.64
MO216 | 64.97 | 60.64
MO217 | 64.75 | 60.44
MO227 | 67.77 | 63.25
MS004 | 64.41 | 60.11
MS005 | 67.01 | 62.54
MS006 | 64.41 | 60.11
MS016 | 69.33 | 64.71
MS019 | 64.41 | 60.11
MS030 | 64.41 | 60.11
MS040 | 67.01 | 62.54
MS057 | 64.41 | 60.11
MS058 | 79.07 | 73.79
MS095 | 64.41 | 60.11
MS103 | 79.07 | 73.79
MS107 | 64.41 | 60.11
MS128 | 64.41 | 60.11
MS301 | 67.01 | 62.54
MT001 | 89.44 | 83.48
MT002 | 79.19 | 73.92
MT003 | 73.94 | 69.00
MT004 | 85.97 | 80.24
MT006 | 69.65 | 65.02
MT015 | 75.47 | 70.43
MT033 | 80.51 | 75.13
MT036 | 75.47 | 70.43
MT901 | 89.44 | 83.48
NC001 | 67.86 | 63.34
NC002 | 81.07 | 75.66
NC003 | 74.35 | 69.38
NC004 | 64.25 | 59.97
NC006 | 70.23 | 65.56
NC007 | 67.86 | 63.34
NC008 | 74.35 | 69.38
NC009 | 68.98 | 64.37
NC011 | 70.23 | 65.56
NC012 | 70.23 | 65.56
NC013 | 81.07 | 75.66
NC014 | 64.25 | 59.97
NC015 | 67.86 | 63.34
NC018 | 64.25 | 59.97
NC019 | 67.86 | 63.34
NC020 | 64.25 | 59.97
NC021 | 81.07 | 75.66
NC022 | 67.86 | 63.34
NC025 | 64.25 | 59.97
NC032 | 64.25 | 59.97
NC035 | 64.86 | 60.53
NC039 | 66.81 | 62.36
NC050 | 67.55 | 63.04
NC056 | 71.50 | 66.74
NC057 | 74.35 | 69.38
NC059 | 70.23 | 65.56
NC065 | 74.35 | 69.38
NC070 | 70.73 | 66.00
NC071 | 66.81 | 62.36
NC072 | 70.43 | 65.74
NC075 | 64.25 | 59.97
NC077 | 64.25 | 59.97
NC081 | 70.23 | 65.56
NC087 | 67.86 | 63.34
NC089 | 64.25 | 59.97
NC098 | 67.86 | 63.34
NC102 | 70.73 | 66.00
NC104 | 81.07 | 75.66
NC118 | 64.25 | 59.97
NC120 | 81.07 | 75.66
NC134 | 70.73 | 66.00
NC137 | 67.86 | 63.34
NC138 | 64.25 | 59.97
NC139 | 64.25 | 59.97
NC140 | 67.86 | 63.34
NC141 | 64.25 | 59.97
NC144 | 67.86 | 63.34
NC145 | 64.25 | 59.97
NC146 | 64.25 | 59.97
NC147 | 67.86 | 63.34
NC149 | 64.25 | 59.97
NC150 | 64.25 | 59.97
NC151 | 64.68 | 60.37
NC152 | 67.86 | 63.34
NC155 | 64.25 | 59.97
NC159 | 71.50 | 66.74
NC160 | 64.25 | 59.97
NC161 | 64.25 | 59.97
NC163 | 67.55 | 63.04
NC164 | 81.07 | 75.66
NC165 | 64.25 | 59.97
NC166 | 70.23 | 65.56
NC167 | 65.46 | 61.09
NC173 | 67.86 | 63.34
NC175 | 67.86 | 63.34
NC901 | 64.25 | 59.97
ND001 | 76.95 | 71.82
ND002 | 76.20 | 71.12
ND003 | 76.20 | 71.12
ND009 | 76.20 | 71.12
ND010 | 76.95 | 71.82
ND011 | 76.20 | 71.12
ND012 | 76.95 | 71.82
ND013 | 76.20 | 71.12
ND014 | 76.95 | 71.82
ND015 | 76.20 | 71.12
ND016 | 76.20 | 71.12
ND017 | 76.20 | 71.12
ND019 | 76.20 | 71.12
ND021 | 76.95 | 71.82
ND022 | 76.20 | 71.12
ND025 | 76.20 | 71.12
ND026 | 76.20 | 71.12
ND030 | 76.20 | 71.12
ND031 | 76.20 | 71.12
ND035 | 76.20 | 71.12
ND036 | 76.20 | 71.12
ND037 | 76.20 | 71.12
ND038 | 76.20 | 71.12
ND039 | 76.20 | 71.12
ND044 | 76.20 | 71.12
ND049 | 76.20 | 71.12
ND052 | 76.20 | 71.12
ND054 | 76.20 | 71.12
ND055 | 76.20 | 71.12
ND070 | 76.20 | 71.12
ND901 | 76.95 | 71.82
NE001 | 71.25 | 66.50
NE002 | 70.90 | 66.17
NE003 | 70.90 | 66.17
NE004 | 70.90 | 66.17
NE010 | 70.90 | 66.17
NE041 | 70.90 | 66.17
NE078 | 70.90 | 66.17
NE083 | 70.90 | 66.17
NE094 | 70.90 | 66.17
NE100 | 70.90 | 66.17
NE104 | 70.90 | 66.17
NE114 | 70.90 | 66.17
NE120 | 70.90 | 66.17
NE123 | 70.90 | 66.17
NE141 | 70.90 | 66.17
NE143 | 70.90 | 66.17
NE150 | 70.90 | 66.17
NE153 | 71.25 | 66.50
NE157 | 70.90 | 66.17
NE174 | 71.25 | 66.50
NE175 | 70.90 | 66.17
NE179 | 70.90 | 66.17
NE180 | 70.90 | 66.17
NE181 | 70.90 | 66.17
NE182 | 70.90 | 66.17
NH001 | 94.66 | 88.34
NH002 | 100.56 | 93.85
NH003 | 98.01 | 91.49
NH004 | 98.01 | 91.49
NH005 | 107.75 | 100.56
NH006 | 98.01 | 91.49
NH007 | 84.87 | 79.21
NH008 | 98.01 | 91.49
NH009 | 87.61 | 81.76
NH010 | 100.69 | 93.98
NH011 | 77.24 | 72.10
NH012 | 82.28 | 76.80
NH013 | 98.01 | 91.49
NH014 | 98.01 | 91.49
NH015 | 77.24 | 72.10
NH016 | 77.24 | 72.10
NH022 | 121.02 | 112.96
NH888 | 100.56 | 93.85
NH901 | 94.66 | 88.34
NJ002 | 111.43 | 103.98
NJ003 | 111.43 | 103.98
NJ004 | 95.11 | 88.76
NJ006 | 114.11 | 106.51
NJ007 | 111.71 | 104.26
NJ008 | 111.71 | 104.26
NJ009 | 95.11 | 88.76
NJ010 | 93.31 | 87.09
NJ011 | 114.11 | 106.51
NJ012 | 95.11 | 88.76
NJ013 | 114.11 | 106.51
NJ014 | 94.22 | 87.96
NJ015 | 95.11 | 88.76
NJ021 | 114.11 | 106.51
NJ022 | 114.11 | 106.51
NJ023 | 111.43 | 103.98
NJ025 | 111.43 | 103.98
NJ026 | 95.11 | 88.76
NJ030 | 95.11 | 88.76
NJ032 | 111.43 | 103.98
NJ033 | 114.11 | 106.51
NJ035 | 114.11 | 106.51
NJ036 | 95.11 | 88.76
NJ037 | 111.43 | 103.98
NJ039 | 111.43 | 103.98
NJ042 | 114.11 | 106.51
NJ043 | 114.11 | 106.51
NJ044 | 114.11 | 106.51
NJ046 | 111.71 | 104.26
NJ047 | 114.11 | 106.51
NJ048 | 111.71 | 104.26
NJ049 | 90.58 | 84.54
NJ050 | 111.43 | 103.98
NJ051 | 93.31 | 87.09
NJ052 | 111.43 | 103.98
NJ054 | 111.71 | 104.26
NJ055 | 114.11 | 106.51
NJ056 | 111.71 | 104.26
NJ058 | 93.31 | 87.09
NJ059 | 94.22 | 87.96
NJ060 | 111.71 | 104.26
NJ061 | 90.58 | 84.54
NJ063 | 90.58 | 84.54
NJ065 | 111.71 | 104.26
NJ066 | 111.43 | 103.98
NJ067 | 114.11 | 106.51
NJ068 | 111.43 | 103.98
NJ070 | 114.11 | 106.51
NJ071 | 114.11 | 106.51
NJ073 | 93.31 | 87.09
NJ074 | 93.31 | 87.09
NJ075 | 114.11 | 106.51
NJ077 | 95.11 | 88.76
NJ081 | 111.71 | 104.26
NJ083 | 95.11 | 88.76
NJ084 | 114.11 | 106.51
NJ086 | 111.43 | 103.98
NJ088 | 111.43 | 103.98
NJ089 | 114.11 | 106.51
NJ090 | 114.11 | 106.51
NJ092 | 111.43 | 103.98
NJ095 | 111.71 | 104.26
NJ097 | 114.11 | 106.51
NJ099 | 111.43 | 103.98
NJ102 | 111.43 | 103.98
NJ105 | 111.43 | 103.98
NJ106 | 114.11 | 106.51
NJ108 | 111.43 | 103.98
NJ109 | 111.43 | 103.98
NJ110 | 114.11 | 106.51
NJ112 | 114.11 | 106.51
NJ113 | 111.43 | 103.98
NJ114 | 114.11 | 106.51
NJ118 | 93.31 | 87.09
NJ204 | 93.31 | 87.09
NJ212 | 109.48 | 102.18
NJ214 | 111.71 | 104.26
NJ880 | 111.71 | 104.26
NJ881 | 114.11 | 106.51
NJ882 | 111.43 | 103.98
NJ912 | 111.43 | 103.98
NM001 | 80.56 | 75.19
NM002 | 62.05 | 57.91
NM003 | 63.93 | 59.67
NM006 | 80.18 | 74.83
NM009 | 95.34 | 88.97
NM020 | 62.79 | 58.59
NM033 | 62.05 | 57.91
NM039 | 62.05 | 57.91
NM050 | 95.34 | 88.97
NM057 | 80.56 | 75.19
NM061 | 62.05 | 57.91
NM063 | 62.79 | 58.59
NM066 | 79.28 | 73.99
NM067 | 62.05 | 57.91
NM077 | 80.56 | 75.19
NM088 | 66.17 | 61.76
NV001 | 84.09 | 78.48
NV018 | 94.46 | 88.17
NV905 | 84.09 | 78.48
NY001 | 82.33 | 76.85
NY002 | 76.95 | 71.83
NY003 | 128.16 | 119.62
NY005 | 111.40 | 103.97
NY006 | 75.37 | 70.36
NY009 | 89.47 | 83.51
NY012 | 89.47 | 83.51
NY015 | 89.47 | 83.51
NY016 | 78.07 | 72.86
NY017 | 62.96 | 58.77
NY018 | 66.75 | 62.30
NY019 | 75.37 | 70.36
NY020 | 89.47 | 83.51
NY021 | 72.69 | 67.85
NY022 | 89.47 | 83.51
NY023 | 128.16 | 119.62
NY025 | 89.47 | 83.51
NY027 | 82.33 | 76.85
NY028 | 89.47 | 83.51
NY033 | 89.47 | 83.51
NY034 | 75.37 | 70.36
NY035 | 128.16 | 119.62
NY038 | 128.16 | 119.62
NY041 | 94.19 | 87.91
NY042 | 128.16 | 119.62
NY044 | 94.19 | 87.91
NY045 | 100.76 | 94.04
NY048 | 59.72 | 55.74
NY049 | 114.50 | 106.87
NY050 | 128.16 | 119.62
NY051 | 114.50 | 106.87
NY054 | 87.99 | 82.14
NY057 | 128.16 | 119.62
NY059 | 75.37 | 70.36
NY060 | 76.49 | 71.39
NY061 | 68.94 | 64.35
NY062 | 114.50 | 106.87
NY065 | 69.85 | 65.20
NY066 | 70.39 | 65.70
NY067 | 66.62 | 62.17
NY068 | 65.27 | 60.91
NY070 | 76.95 | 71.83
NY071 | 78.04 | 72.84
NY077 | 128.16 | 119.62
NY079 | 84.71 | 79.06
NY084 | 111.40 | 103.97
NY085 | 128.16 | 119.62
NY086 | 128.16 | 119.62
NY087 | 64.19 | 59.90
NY088 | 128.16 | 119.62
NY089 | 94.19 | 87.91
NY091 | 76.95 | 71.83
NY094 | 128.16 | 119.62
NY098 | 75.37 | 70.36
NY102 | 82.33 | 76.85
NY103 | 100.76 | 94.04
NY107 | 82.33 | 76.85
NY109 | 75.37 | 70.36
NY110 | 111.40 | 103.97
NY113 | 128.16 | 119.62
NY114 | 111.40 | 103.97
NY117 | 128.16 | 119.62
NY120 | 128.16 | 119.62
NY121 | 128.16 | 119.62
NY123 | 128.16 | 119.62
NY125 | 114.50 | 106.87
NY127 | 128.16 | 119.62
NY128 | 128.16 | 119.62
NY130 | 128.16 | 119.62
NY132 | 128.16 | 119.62
NY134 | 114.50 | 106.87
NY137 | 114.50 | 106.87
NY138 | 111.40 | 103.97
NY141 | 128.16 | 119.62
NY146 | 128.16 | 119.62
NY147 | 128.16 | 119.62
NY148 | 111.40 | 103.97
NY149 | 128.16 | 119.62
NY151 | 128.16 | 119.62
NY152 | 128.16 | 119.62
NY154 | 128.16 | 119.62
NY158 | 114.50 | 106.87
NY159 | 128.16 | 119.62
NY160 | 111.40 | 103.97
NY165 | 128.16 | 119.62
NY402 | 79.50 | 74.19
NY403 | 59.45 | 55.49
NY404 | 76.95 | 71.83
NY405 | 76.95 | 71.83
NY406 | 94.19 | 87.91
NY408 | 89.47 | 83.51
NY409 | 76.95 | 71.83
NY413 | 76.49 | 71.39
NY416 | 89.47 | 83.51
NY417 | 75.37 | 70.36
NY421 | 89.47 | 83.51
NY422 | 89.47 | 83.51
NY424 | 89.47 | 83.51
NY427 | 89.47 | 83.51
NY428 | 89.47 | 83.51
NY430 | 89.47 | 83.51
NY431 | 89.47 | 83.51
NY433 | 59.72 | 55.74
NY443 | 75.37 | 70.36
NY447 | 89.47 | 83.51
NY449 | 76.95 | 71.83
NY501 | 89.47 | 83.51
NY503 | 89.47 | 83.51
NY504 | 82.33 | 76.85
NY505 | 78.07 | 72.86
NY512 | 89.47 | 83.51
NY513 | 89.47 | 83.51
NY516 | 89.47 | 83.51
NY519 | 89.47 | 83.51
NY521 | 82.33 | 76.85
NY527 | 82.33 | 76.85
NY529 | 100.76 | 94.04
NY530 | 76.49 | 71.39
NY532 | 89.47 | 83.51
NY534 | 75.37 | 70.36
NY535 | 89.47 | 83.51
NY538 | 89.47 | 83.51
NY541 | 65.27 | 60.91
NY552 | 75.37 | 70.36
NY557 | 89.47 | 83.51
NY561 | 89.47 | 83.51
NY562 | 89.47 | 83.51
NY564 | 89.47 | 83.51
NY630 | 89.47 | 83.51
NY888 | 128.16 | 119.62
NY889 | 62.96 | 58.77
NY891 | 128.16 | 119.62
NY892 | 128.16 | 119.62
NY895 | 128.16 | 119.62
NY904 | 111.40 | 103.97
NY912 | 76.95 | 71.83
OH001 | 70.05 | 65.37
OH002 | 63.62 | 59.37
OH003 | 73.85 | 68.92
OH004 | 71.51 | 66.74
OH005 | 65.24 | 60.89
OH006 | 73.41 | 68.51
OH007 | 72.65 | 67.81
OH008 | 63.62 | 59.37
OH009 | 61.01 | 56.94
OH010 | 61.01 | 56.94
OH012 | 73.85 | 68.92
OH014 | 64.05 | 59.78
OH015 | 71.51 | 66.74
OH016 | 62.59 | 58.41
OH018 | 62.59 | 58.41
OH019 | 62.44 | 58.28
OH020 | 61.09 | 57.02
OH021 | 65.24 | 60.89
OH022 | 65.24 | 60.89
OH024 | 61.01 | 56.94
OH025 | 73.85 | 68.92
OH026 | 62.01 | 57.87
OH027 | 73.85 | 68.92
OH028 | 64.96 | 60.63
OH029 | 71.99 | 67.18
OH030 | 61.01 | 56.94
OH031 | 72.65 | 67.81
OH032 | 61.25 | 57.16
OH033 | 61.01 | 56.94
OH034 | 61.25 | 57.16
OH035 | 61.01 | 56.94
OH036 | 61.29 | 57.20
OH037 | 61.01 | 56.94
OH038 | 71.51 | 66.74
OH039 | 61.01 | 56.94
OH040 | 61.01 | 56.94
OH041 | 61.01 | 56.94
OH042 | 73.85 | 68.92
OH043 | 70.05 | 65.37
OH044 | 63.62 | 59.37
OH045 | 61.01 | 56.94
OH046 | 61.01 | 56.94
OH047 | 61.01 | 56.94
OH049 | 71.51 | 66.74
OH050 | 61.01 | 56.94
OH053 | 61.01 | 56.94
OH054 | 63.57 | 59.33
OH056 | 61.01 | 56.94
OH058 | 61.01 | 56.94
OH059 | 70.05 | 65.37
OH060 | 61.01 | 56.94
OH061 | 62.41 | 58.25
OH062 | 65.24 | 60.89
OH063 | 61.01 | 56.94
OH066 | 61.01 | 56.94
OH067 | 61.01 | 56.94
OH069 | 61.01 | 56.94
OH070 | 70.05 | 65.37
OH071 | 73.41 | 68.51
OH072 | 61.01 | 56.94
OH073 | 73.85 | 68.92
OH074 | 62.72 | 58.53
OH075 | 61.01 | 56.94
OH076 | 61.01 | 56.94
OH077 | 61.01 | 56.94
OH078 | 61.01 | 56.94
OH079 | 70.05 | 65.37
OH080 | 62.50 | 58.32
OH081 | 62.59 | 58.41
OH082 | 61.16 | 57.07
OH083 | 70.05 | 65.37
OH085 | 73.41 | 68.51
OH086 | 61.01 | 56.94
OH882 | 73.85 | 68.92
OK002 | 66.45 | 62.02
OK005 | 64.64 | 60.33
OK006 | 63.78 | 59.53
OK024 | 63.78 | 59.53
OK027 | 63.78 | 59.53
OK032 | 63.78 | 59.53
OK033 | 64.64 | 60.33
OK044 | 63.78 | 59.53
OK062 | 63.78 | 59.53
OK067 | 63.78 | 59.53
OK073 | 64.64 | 60.33
OK095 | 65.57 | 61.20
OK096 | 63.78 | 59.53
OK099 | 63.78 | 59.53
OK111 | 63.78 | 59.53
OK118 | 63.78 | 59.53
OK139 | 66.45 | 62.02
OK142 | 64.64 | 60.33
OK146 | 63.78 | 59.53
OK148 | 65.57 | 61.20
OK901 | 66.45 | 62.02
OR001 | 87.03 | 81.22
OR002 | 87.03 | 81.22
OR003 | 87.64 | 81.80
OR005 | 81.56 | 76.13
OR006 | 100.01 | 93.35
OR007 | 83.85 | 78.26
OR008 | 93.43 | 87.21
OR011 | 93.43 | 87.21
OR014 | 93.43 | 87.21
OR015 | 99.36 | 92.73
OR016 | 87.03 | 81.22
OR017 | 80.04 | 74.71
OR019 | 88.35 | 82.45
OR020 | 87.64 | 81.80
OR022 | 87.03 | 81.22
OR026 | 88.71 | 82.80
OR027 | 80.04 | 74.71
OR028 | 87.03 | 81.22
OR031 | 90.52 | 84.50
OR032 | 83.85 | 78.26
OR034 | 96.07 | 89.66
PA001 | 65.12 | 60.78
PA002 | 93.31 | 87.09
PA003 | 63.13 | 58.92
PA004 | 79.47 | 74.16
PA005 | 65.12 | 60.78
PA006 | 65.12 | 60.78
PA007 | 93.31 | 87.09
PA008 | 81.33 | 75.91
PA009 | 77.50 | 72.32
PA010 | 65.12 | 60.78
PA011 | 79.47 | 74.16
PA012 | 93.31 | 87.09
PA013 | 79.05 | 73.78
PA014 | 65.12 | 60.78
PA015 | 65.12 | 60.78
PA016 | 71.40 | 66.64
PA017 | 65.12 | 60.78
PA018 | 65.12 | 60.78
PA019 | 66.83 | 62.37
PA020 | 73.37 | 68.47
PA021 | 66.83 | 62.37
PA022 | 74.65 | 69.67
PA023 | 93.31 | 87.09
PA024 | 79.47 | 74.16
PA026 | 65.55 | 61.17
PA027 | 62.12 | 57.97
PA028 | 84.75 | 79.11
PA029 | 67.11 | 62.64
PA030 | 63.13 | 58.92
PA031 | 68.82 | 64.23
PA032 | 66.41 | 61.98
PA033 | 65.55 | 61.17
PA034 | 71.00 | 66.26
PA035 | 81.33 | 75.91
PA036 | 82.60 | 77.10
PA037 | 71.40 | 66.64
PA038 | 63.13 | 58.92
PA039 | 76.49 | 71.39
PA041 | 65.40 | 61.04
PA042 | 63.13 | 58.92
PA043 | 63.13 | 58.92
PA044 | 63.13 | 58.92
PA045 | 66.12 | 61.71
PA046 | 93.31 | 87.09
PA047 | 63.13 | 58.92
PA048 | 76.82 | 71.70
PA050 | 63.82 | 59.57
PA051 | 93.31 | 87.09
PA052 | 81.33 | 75.91
PA053 | 66.12 | 61.71
PA054 | 64.69 | 60.37
PA055 | 66.12 | 61.71
PA056 | 63.27 | 59.04
PA057 | 63.13 | 58.92
PA058 | 65.55 | 61.17
PA059 | 63.27 | 59.04
PA060 | 66.12 | 61.71
PA061 | 66.12 | 61.71
PA063 | 66.12 | 61.71
PA064 | 63.82 | 59.57
PA065 | 66.12 | 61.71
PA067 | 79.47 | 74.16
PA068 | 63.82 | 59.57
PA069 | 68.82 | 64.23
PA071 | 77.50 | 72.32
PA073 | 63.13 | 58.92
PA074 | 63.82 | 59.57
PA075 | 81.33 | 75.91
PA076 | 79.47 | 74.16
PA077 | 64.69 | 60.37
PA078 | 103.02 | 96.15
PA079 | 65.55 | 61.17
PA080 | 64.69 | 60.37
PA081 | 79.47 | 74.16
PA082 | 74.82 | 69.84
PA083 | 63.68 | 59.43
PA085 | 62.12 | 57.97
PA086 | 63.27 | 59.04
PA087 | 79.05 | 73.78
PA088 | 88.59 | 82.67
PA090 | 82.60 | 77.10
PA091 | 75.31 | 70.28
PA092 | 63.97 | 59.71
RI001 | 118.28 | 110.40
RI002 | 118.28 | 110.40
RI003 | 118.28 | 110.40
RI004 | 118.28 | 110.40
RI005 | 112.99 | 105.45
RI006 | 118.28 | 110.40
RI007 | 118.28 | 110.40
RI008 | 102.85 | 95.99
RI009 | 118.28 | 110.40
RI010 | 118.28 | 110.40
RI011 | 118.28 | 110.40
RI012 | 118.28 | 110.40
RI014 | 118.28 | 110.40
RI015 | 118.28 | 110.40
RI016 | 118.28 | 110.40
RI017 | 118.28 | 110.40
RI018 | 118.28 | 110.40
RI019 | 118.28 | 110.40
RI020 | 118.28 | 110.40
RI022 | 118.28 | 110.40
RI024 | 118.28 | 110.40
RI026 | 118.28 | 110.40
RI027 | 118.28 | 110.40
RI028 | 118.28 | 110.40
RI029 | 118.28 | 110.40
RI901 | 118.28 | 110.40
RQ005 | 79.99 | 74.65
RQ006 | 79.99 | 74.65
RQ007 | 74.42 | 69.46
RQ008 | 79.99 | 74.65
RQ009 | 74.42 | 69.46
RQ010 | 74.42 | 69.46
RQ011 | 79.99 | 74.65
RQ012 | 74.42 | 69.46
RQ013 | 79.99 | 74.65
RQ014 | 79.99 | 74.65
RQ015 | 79.99 | 74.65
RQ016 | 79.99 | 74.65
RQ017 | 74.42 | 69.46
RQ018 | 74.42 | 69.46
RQ019 | 79.99 | 74.65
RQ020 | 81.73 | 76.28
RQ021 | 79.99 | 74.65
RQ022 | 79.99 | 74.65
RQ023 | 79.99 | 74.65
RQ024 | 79.99 | 74.65
RQ025 | 79.99 | 74.65
RQ026 | 74.42 | 69.46
RQ027 | 79.99 | 74.65
RQ028 | 79.99 | 74.65
RQ029 | 74.42 | 69.46
RQ030 | 74.42 | 69.46
RQ031 | 74.42 | 69.46
RQ032 | 79.99 | 74.65
RQ033 | 74.42 | 69.46
RQ034 | 79.99 | 74.65
RQ035 | 74.42 | 69.46
RQ036 | 79.99 | 74.65
RQ037 | 74.42 | 69.46
RQ038 | 79.99 | 74.65
RQ039 | 81.73 | 76.28
RQ040 | 81.73 | 76.28
RQ041 | 74.42 | 69.46
RQ042 | 74.42 | 69.46
RQ043 | 74.42 | 69.46
RQ044 | 79.99 | 74.65
RQ045 | 79.99 | 74.65
RQ046 | 74.42 | 69.46
RQ047 | 79.99 | 74.65
RQ048 | 74.42 | 69.46
RQ049 | 79.99 | 74.65
RQ050 | 79.99 | 74.65
RQ052 | 74.42 | 69.46
RQ053 | 79.99 | 74.65
RQ054 | 79.99 | 74.65
RQ055 | 74.42 | 69.46
RQ056 | 79.99 | 74.65
RQ057 | 74.42 | 69.46
RQ058 | 74.42 | 69.46
RQ059 | 74.42 | 69.46
RQ060 | 74.42 | 69.46
RQ061 | 74.42 | 69.46
RQ062 | 74.42 | 69.46
RQ063 | 79.99 | 74.65
RQ064 | 79.99 | 74.65
RQ065 | 74.42 | 69.46
RQ066 | 74.42 | 69.46
RQ067 | 74.42 | 69.46
RQ068 | 74.42 | 69.46
RQ069 | 74.42 | 69.46
RQ070 | 79.99 | 74.65
RQ071 | 74.42 | 69.46
RQ072 | 79.99 | 74.65
RQ073 | 74.42 | 69.46
RQ074 | 74.42 | 69.46
RQ075 | 79.99 | 74.65
RQ077 | 79.99 | 74.65
RQ080 | 74.42 | 69.46
RQ081 | 79.99 | 74.65
RQ082 | 79.99 | 74.65
RQ083 | 79.99 | 74.65
SC001 | 72.44 | 67.61
SC002 | 73.23 | 68.34
SC003 | 66.84 | 62.39
SC004 | 66.84 | 62.39
SC005 | 66.84 | 62.39
SC007 | 70.23 | 65.55
SC008 | 66.84 | 62.39
SC015 | 65.28 | 60.92
SC016 | 66.84 | 62.39
SC018 | 66.84 | 62.39
SC019 | 66.84 | 62.39
SC020 | 66.84 | 62.39
SC021 | 65.28 | 60.92
SC022 | 74.35 | 69.38
SC023 | 66.84 | 62.39
SC024 | 72.44 | 67.61
SC025 | 66.84 | 62.39
SC026 | 68.22 | 63.66
SC027 | 66.84 | 62.39
SC028 | 65.28 | 60.92
SC029 | 66.84 | 62.39
SC030 | 65.28 | 60.92
SC031 | 65.28 | 60.92
SC032 | 66.84 | 62.39
SC033 | 65.28 | 60.92
SC034 | 66.84 | 62.39
SC035 | 65.28 | 60.92
SC036 | 74.35 | 69.38
SC037 | 66.84 | 62.39
SC046 | 74.35 | 69.38
SC056 | 72.44 | 67.61
SC057 | 72.44 | 67.61
SC059 | 65.28 | 60.92
SC911 | 73.23 | 68.34
SD010 | 70.38 | 65.68
SD011 | 68.37 | 63.81
SD014 | 68.37 | 63.81
SD016 | 70.38 | 65.68
SD021 | 68.37 | 63.81
SD026 | 68.37 | 63.81
SD034 | 68.37 | 63.81
SD035 | 74.29 | 69.33
SD036 | 68.37 | 63.81
SD037 | 68.37 | 63.81
SD039 | 70.38 | 65.68
SD043 | 68.37 | 63.81
SD045 | 68.54 | 63.97
SD047 | 68.37 | 63.81
SD048 | 68.37 | 63.81
SD055 | 68.37 | 63.81
SD056 | 68.37 | 63.81
SD057 | 68.37 | 63.81
SD058 | 68.37 | 63.81
SD059 | 68.37 | 63.81
TN001 | 69.33 | 64.71
TN002 | 64.29 | 60.00
TN003 | 64.67 | 60.37
TN004 | 70.28 | 65.60
TN005 | 76.84 | 71.71
TN006 | 64.29 | 60.00
TN007 | 64.29 | 60.00
TN012 | 64.67 | 60.37
TN013 | 63.68 | 59.43
TN020 | 76.84 | 71.71
TN024 | 63.68 | 59.43
TN026 | 63.68 | 59.43
TN035 | 76.84 | 71.71
TN038 | 64.29 | 60.00
TN042 | 63.68 | 59.43
TN054 | 64.29 | 60.00
TN062 | 63.68 | 59.43
TN065 | 64.67 | 60.37
TN066 | 64.29 | 60.00
TN076 | 64.29 | 60.00
TN079 | 76.84 | 71.71
TN088 | 64.67 | 60.37
TN113 | 64.67 | 60.37
TN117 | 70.28 | 65.60
TN903 | 76.84 | 71.71
TQ901 | 118.25 | 110.38
TX001 | 85.12 | 79.45
TX003 | 72.32 | 67.49
TX004 | 81.33 | 75.91
TX005 | 77.21 | 72.07
TX006 | 74.83 | 69.85
TX007 | 66.35 | 61.92
TX008 | 76.29 | 71.20
TX009 | 87.28 | 81.47
TX010 | 65.43 | 61.07
TX011 | 65.43 | 61.07
TX012 | 77.21 | 72.07
TX014 | 65.43 | 61.07
TX016 | 62.40 | 58.24
TX017 | 77.21 | 72.07
TX018 | 65.43 | 61.07
TX019 | 62.40 | 58.24
TX021 | 62.40 | 58.24
TX023 | 74.77 | 69.77
TX025 | 66.35 | 61.92
TX027 | 87.28 | 81.47
TX028 | 65.59 | 61.21
TX029 | 65.59 | 61.21
TX030 | 65.43 | 61.07
TX031 | 85.12 | 79.45
TX032 | 77.21 | 72.07
TX034 | 74.77 | 69.77
TX035 | 62.55 | 58.37
TX037 | 74.77 | 69.77
TX039 | 62.40 | 58.24
TX042 | 62.40 | 58.24
TX044 | 62.40 | 58.24
TX046 | 65.59 | 61.21
TX048 | 62.40 | 58.24
TX049 | 62.40 | 58.24
TX051 | 65.59 | 61.21
TX062 | 65.59 | 61.21
TX064 | 65.59 | 61.21
TX065 | 66.35 | 61.92
TX072 | 62.40 | 58.24
TX073 | 65.59 | 61.21
TX075 | 62.40 | 58.24
TX079 | 65.43 | 61.07
TX085 | 90.66 | 84.61
TX087 | 85.12 | 79.45
TX095 | 87.28 | 81.47
TX096 | 62.40 | 58.24
TX105 | 62.40 | 58.24
TX111 | 66.96 | 62.49
TX114 | 62.40 | 58.24
TX128 | 87.28 | 81.47
TX134 | 62.40 | 58.24
TX137 | 65.43 | 61.07
TX147 | 62.40 | 58.24
TX152 | 62.40 | 58.24
TX158 | 65.43 | 61.07
TX163 | 76.29 | 71.20
TX164 | 76.29 | 71.20
TX173 | 66.35 | 61.92
TX174 | 76.29 | 71.20
TX175 | 62.40 | 58.24
TX177 | 65.59 | 61.21
TX178 | 62.40 | 58.24
TX183 | 62.40 | 58.24
TX189 | 62.40 | 58.24
TX193 | 74.83 | 69.85
TX197 | 65.43 | 61.07
TX201 | 62.40 | 58.24
TX202 | 65.59 | 61.21
TX206 | 66.35 | 61.92
TX208 | 65.43 | 61.07
TX210 | 65.43 | 61.07
TX217 | 62.40 | 58.24
TX224 | 65.59 | 61.21
TX236 | 65.43 | 61.07
TX242 | 62.40 | 58.24
TX257 | 65.43 | 61.07
TX259 | 85.12 | 79.45
TX263 | 62.40 | 58.24
TX264 | 85.12 | 79.45
TX266 | 85.12 | 79.45
TX272 | 62.40 | 58.24
TX284 | 62.40 | 58.24
TX298 | 62.40 | 58.24
TX300 | 62.40 | 58.24
TX302 | 76.29 | 71.20
TX303 | 74.83 | 69.85
TX309 | 62.40 | 58.24
TX313 | 76.29 | 71.20
TX322 | 85.12 | 79.45
TX327 | 65.43 | 61.07
TX330 | 62.40 | 58.24
TX332 | 62.40 | 58.24
TX335 | 62.40 | 58.24
TX341 | 73.38 | 68.49
TX343 | 74.83 | 69.85
TX349 | 81.33 | 75.91
TX350 | 74.83 | 69.85
TX358 | 62.40 | 58.24
TX372 | 62.40 | 58.24
TX376 | 62.40 | 58.24
TX377 | 85.12 | 79.45
TX378 | 62.55 | 58.37
TX381 | 62.40 | 58.24
TX392 | 87.28 | 81.47
TX395 | 64.46 | 60.16
TX396 | 62.40 | 58.24
TX397 | 62.40 | 58.24
TX421 | 62.40 | 58.24
TX431 | 81.33 | 75.91
TX432 | 72.32 | 67.49
TX433 | 81.33 | 75.91
TX434 | 87.28 | 81.47
TX435 | 87.28 | 81.47
TX436 | 87.28 | 81.47
TX439 | 72.32 | 67.49
TX440 | 77.21 | 72.07
TX441 | 77.21 | 72.07
TX444 | 65.43 | 61.07
TX445 | 65.59 | 61.21
TX447 | 65.59 | 61.21
TX448 | 65.59 | 61.21
TX449 | 62.40 | 58.24
TX452 | 74.83 | 69.85
TX454 | 62.40 | 58.24
TX455 | 84.08 | 78.48
TX456 | 74.60 | 69.63
TX457 | 69.98 | 65.31
TX458 | 65.43 | 61.07
TX459 | 73.38 | 68.49
TX461 | 66.38 | 61.97
TX470 | 65.43 | 61.07
TX472 | 65.43 | 61.07
TX480 | 85.12 | 79.45
TX481 | 65.43 | 61.07
TX482 | 65.43 | 61.07
TX483 | 77.21 | 72.07
TX484 | 83.39 | 77.82
TX485 | 62.40 | 58.24
TX486 | 63.43 | 59.19
TX488 | 62.40 | 58.24
TX493 | 87.28 | 81.47
TX495 | 81.33 | 75.91
TX497 | 65.59 | 61.21
TX498 | 66.96 | 62.49
TX499 | 65.43 | 61.07
TX500 | 62.40 | 58.24
TX505 | 77.21 | 72.07
TX509 | 66.35 | 61.92
TX511 | 62.40 | 58.24
TX512 | 62.40 | 58.24
TX514 | 65.43 | 61.07
TX516 | 62.40 | 58.24
TX519 | 62.40 | 58.24
TX522 | 87.28 | 81.47
TX523 | 66.96 | 62.49
TX526 | 87.44 | 81.61
TX533 | 87.28 | 81.47
TX534 | 84.08 | 78.48
TX535 | 62.40 | 58.24
TX537 | 62.40 | 58.24
TX542 | 65.43 | 61.07
TX546 | 65.43 | 61.07
TX559 | 87.28 | 81.47
TX560 | 77.21 | 72.07
TX901 | 77.21 | 72.07
UT002 | 73.48 | 68.58
UT003 | 73.48 | 68.58
UT004 | 73.48 | 68.58
UT006 | 77.30 | 72.13
UT007 | 73.48 | 68.58
UT009 | 73.48 | 68.58
UT011 | 73.48 | 68.58
UT014 | 87.93 | 82.05
UT015 | 87.93 | 82.05
UT016 | 87.93 | 82.05
UT020 | 73.48 | 68.58
UT021 | 75.67 | 70.64
UT022 | 73.48 | 68.58
UT025 | 73.48 | 68.58
UT026 | 73.48 | 68.58
UT028 | 87.93 | 82.05
UT029 | 87.93 | 82.05
UT030 | 73.48 | 68.58
UT031 | 77.30 | 72.13
VA001 | 78.86 | 73.60
VA002 | 64.29 | 60.00
VA003 | 78.86 | 73.60
VA004 | 116.27 | 108.53
VA005 | 71.53 | 66.76
VA006 | 78.86 | 73.60
VA007 | 71.53 | 66.76
VA010 | 60.63 | 56.59
VA011 | 62.95 | 58.75
VA012 | 78.86 | 73.60
VA013 | 63.66 | 59.41
VA014 | 63.66 | 59.41
VA015 | 57.04 | 53.24
VA016 | 79.98 | 74.65
VA017 | 78.86 | 73.60
VA018 | 57.04 | 53.24
VA019 | 116.27 | 108.53
VA020 | 71.53 | 66.76
VA021 | 57.04 | 53.24
VA022 | 57.87 | 54.01
VA023 | 57.87 | 54.01
VA024 | 57.04 | 53.24
VA025 | 78.86 | 73.60
VA028 | 116.27 | 108.53
VA030 | 57.04 | 53.24
VA031 | 64.29 | 60.00
VA032 | 64.29 | 60.00
VA034 | 57.04 | 53.24
VA035 | 116.27 | 108.53
VA036 | 79.98 | 74.65
VA037 | 57.18 | 53.36
VA038 | 57.04 | 53.24
VA039 | 78.86 | 73.60
VA040 | 57.04 | 53.24
VA041 | 78.86 | 73.60
VA042 | 64.29 | 60.00
VA044 | 57.84 | 53.99
VA046 | 116.27 | 108.53
VA901 | 71.53 | 66.76
VQ901 | 100.63 | 93.93
VT001 | 98.31 | 91.76
VT002 | 84.37 | 78.75
VT003 | 87.27 | 81.45
VT004 | 86.40 | 80.64
VT005 | 80.89 | 75.50
VT006 | 98.31 | 91.76
VT008 | 80.89 | 75.50
VT009 | 81.76 | 76.31
VT901 | 98.31 | 91.76
WA001 | 106.19 | 99.09
WA002 | 106.19 | 99.09
WA003 | 93.79 | 87.54
WA004 | 87.76 | 81.90
WA005 | 90.17 | 84.18
WA006 | 106.19 | 99.09
WA007 | 72.30 | 67.48
WA008 | 87.03 | 81.22
WA011 | 106.19 | 99.09
WA012 | 81.92 | 76.45
WA013 | 81.44 | 76.00
WA014 | 67.67 | 63.16
WA017 | 68.89 | 64.30
WA018 | 87.76 | 81.90
WA020 | 72.30 | 67.48
WA021 | 81.92 | 76.45
WA024 | 103.11 | 96.21
WA025 | 100.81 | 94.08
WA036 | 93.79 | 87.54
WA039 | 106.19 | 99.09
WA042 | 85.17 | 79.49
WA049 | 96.90 | 90.43
WA054 | 90.17 | 84.18
WA055 | 81.57 | 76.14
WA057 | 88.55 | 82.65
WA061 | 92.17 | 86.02
WA064 | 83.87 | 78.27
WA071 | 74.16 | 69.21
WI001 | 68.78 | 64.20
WI002 | 66.70 | 62.26
WI003 | 74.24 | 69.29
WI006 | 63.82 | 59.56
WI011 | 56.72 | 52.93
WI020 | 92.99 | 86.79
WI031 | 55.80 | 52.08
WI043 | 56.16 | 52.43
WI045 | 55.80 | 52.08
WI047 | 55.80 | 52.08
WI048 | 55.80 | 52.08
WI060 | 92.99 | 86.79
WI064 | 61.89 | 57.77
WI065 | 56.16 | 52.43
WI068 | 56.72 | 52.93
WI069 | 56.72 | 52.93
WI070 | 55.80 | 52.08
WI083 | 66.70 | 62.26
WI085 | 55.80 | 52.08
WI091 | 55.80 | 52.08
WI096 | 55.80 | 52.08
WI127 | 55.80 | 52.08
WI131 | 55.80 | 52.08
WI142 | 66.70 | 62.26
WI160 | 55.80 | 52.08
WI166 | 55.80 | 52.08
WI183 | 60.94 | 56.87
WI186 | 55.91 | 52.18
WI193 | 55.80 | 52.08
WI195 | 68.98 | 64.37
WI201 | 66.70 | 62.26
WI203 | 61.89 | 57.77
WI204 | 56.72 | 52.93
WI205 | 55.80 | 52.08
WI206 | 55.80 | 52.08
WI208 | 55.80 | 52.08
WI213 | 56.16 | 52.43
WI214 | 74.24 | 69.29
WI218 | 66.70 | 62.26
WI219 | 61.89 | 57.77
WI221 | 55.80 | 52.08
WI222 | 55.80 | 52.08
WI231 | 55.80 | 52.08
WI233 | 55.80 | 52.08
WI237 | 56.84 | 53.05
WI241 | 55.80 | 52.08
WI244 | 61.26 | 57.17
WI245 | 55.80 | 52.08
WI246 | 56.41 | 52.64
WI248 | 55.80 | 52.08
WI256 | 55.80 | 52.08
WI901 | 55.80 | 52.08
WV001 | 75.74 | 70.69
WV003 | 61.09 | 57.02
WV004 | 62.44 | 58.28
WV005 | 59.94 | 55.94
WV006 | 63.13 | 58.91
WV009 | 63.80 | 59.54
WV010 | 65.66 | 61.29
WV015 | 59.94 | 55.94
WV016 | 64.05 | 59.78
WV017 | 58.81 | 54.89
WV018 | 58.81 | 54.89
WV027 | 60.03 | 56.04
WV034 | 58.81 | 54.89
WV035 | 60.03 | 56.04
WV037 | 62.44 | 58.28
WV039 | 59.94 | 55.94
WV042 | 59.94 | 55.94
WV045 | 58.81 | 54.89
WY002 | 86.18 | 80.44
WY003 | 69.31 | 64.69
WY004 | 103.83 | 96.92
WY013 | 69.31 | 64.69

[FR Doc. 2020-12801 Filed 6-12-20; 8:45 am]

BILLING CODE 4210-67-P